FEDERAL COMMUNICATIONS COMMISSION

47 CFR Part 73

[FCC 08-222; MM Docket No. 01-33; RM-10060]

Radio Broadcasting Services; Caro and Cass City, MI

AGENCY: Federal Communications Commission.

ACTION: Final rule; denial of application for review.

SUMMARY: The Commission denied an application for review filed by Edward Czelada of a Report and Order in this proceeding. The Report and Order upgraded the class of Station WIDL from Channel 221A to 221C3, reallotted Channel 221C3 from Caro to Cass City, Michigan, and denied Czelada's counterproposal to allot Channel 218C3 at Ubly, Michigan and Channel 297C3 at Cass City, Michigan. The Commission determined that the counterproposal was defective because it requested a channel allotment in the noncommercial educational reserved band, which is prohibited under the Commission's rules. See SUPPLEMENTARY INFORMATION.

FOR FURTHER INFORMATION CONTACT: Victoria M. McCauley, Media Bureau, (202) 418-2180.

SUPPLEMENTARY INFORMATION: This is a synopsis of the Commission's Memorandum Opinion and Order, MM Docket No. 01-33, adopted September 24, 2008, and released September 26, 2008. The Commission denied an application for review filed by Edward Czelada of a Report and Order in this proceeding. See 66 FR 29237 (May 30, 2001). The Commission also denied review of Czelada's argument that the staff failed to consider the preclusionary effect of the Channel 221 upgrade at Cass City on existing and potential NCE FM service as untimely raised. But even if it were to consider the argument, it was without merit. The preclusionary effect analysis occurs only when the 60 dBu contour of the Channel 221 upgrade proposal overlaps the Grade B contour of a television channel 6 station. No such overlap would occur in this case. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or www.BCPIWEB.com.

This document is not subject to the Congressional Review Act. (The Commission, is, therefore, not required to submit a copy of this Memorandum Opinion and Order to GAO, pursuant to the Congressional Review Act, see 5 U.S.C. 801(a)(1)(A) because the application for review was denied.)

Federal Communications Commission.
Marlene H. Dortch,
Secretary.

[FR Doc. E8-24323 Filed 10-10-08; 8:45 am]

BILLING CODE 6712-01-P